DEPARTMENT OF JUSTICE

Office of Justice Programs

[OJP (OJP)-1303]

Meeting of the Global Justice Information Network Advisory Committee

AGENCY: Office of Justice Programs, Bureau of Justice Assistance, Justice.

ACTION: Notice of meeting.

SUMMARY: Announcement of a meeting of the Global Justice Information Network Advisory Committee to discuss the Global Initiative, as described in Initiative A07 “Access America: Re-Engineering Through Information Technology.”

DATES: The meeting will take place on Thursday, March 15, 2001, from 9 a.m. to 5 p.m. ET.

ADDRESSES: The meeting will take place at the Department of Justice, Office of Justice Programs, 3rd floor Ballroom, 810 7th Street, NW., Washington, DC, 20531; Phone: (202) 616-6500. All attendees will be required to sign in at the security desk, so please allow extra time.

FOR FURTHER INFORMATION CONTACT: To register to attend the meeting, please contact Karen Sublett, Global Network Coordinator, Bureau of Justice Assistance, Office of Justice Programs, 810 7th Street NW., Fourth Floor, Washington, DC 20531; Phone: (202) 616-3463. (This is not a toll-free number). Anyone requiring special accommodations should contact Ms. Sublett at least seven (7) days in advance of the meeting. Due to security measures in the building, members of the public who wish to attend the meeting must register with Ms. Sublett at least (7) days in advance of the meeting.

SUPPLEMENTARY INFORMATION

Authority

The Global Justice Information Network Advisory Committee was established pursuant to section 10(a)(2) of the Federal Advisory Committee Act (Public Law 92-463), as amended.

Purpose

The Global Justice Information Network Advisory Committee (GAC) will act as the focal point for justice information systems integration activities in order to facilitate the coordination of technical, funding, and legislative strategies in support of the Administration's justice priorities.

The GAC will guide and monitor the development of the Global concept. It will advise the Attorney General, the President (through the Attorney General), and local, state, tribal, and federal policymakers in the executive, legislative, and judicial branches and advocate for strategies for accomplishing a Global Network capability.

The Committee will meet to address the Global Initiative, as described in Initiative A07 “Access America: Re-Engineering Through Information Technology.” This meeting will be open to the public, and registrations will then be accepted on a space available basis. Interested persons whose registrations have been accepted may be permitted to participate in the discussions at the discretion of the meeting chairman and with the approval of the Designated Federal Employee (DFE). Further information about this meeting can be obtained from Karen Sublett, DFE, at (202) 616-3463.

Dated: February 14, 2001.
Karen Sublett,
Global Network Coordinator, Office of the Assistant Attorney General (BJA), Office of Justice Programs.

[FR Doc. 01-4189 Filed 2-20-01; 8:45 am]

BILLING CODE 4410-18-P